DEPARTMENT OF TRANSPORTATION

Federal Aviation Administration

Twenty-Seventh Meeting: RTCA Special Committee 206: Aeronautical Information and Meteorological Data Link Services

AGENCY: Federal Aviation Administration (FAA), U.S. Department of Transportation (DOT).

ACTION: Notice of RTCA Special Committee 206 meeting: Aeronautical Information and Meteorological Data Link Services.

SUMMARY: The FAA is issuing this notice to advise the public of a meeting of RTCA Special Committee 206: Aeronautical Information and Meteorological Data Link Services for 27th meeting.

DATES: The meeting will be held December 12-16, 2011, from 9 a.m. to 5 p.m.

ADDRESS: The meeting will be held at RTCA, 1150 18th Street, NW., Suite 910, Washington, DC 20036.

FOR FURTHER INFORMATION CONTACT: The RTCA Secretariat, 1150 18th Street, NW., Suite 910, Washington, DC 20036, or by telephone at (202) 833-9339, fax at (202) 833-9434, or Web site at http://www.rtca.org.

SUPPLEMENTARY INFORMATION: Pursuant to section 10(a)(2) of the Federal Advisory Committee Act (Pub. L. No. 92-463, 5 U.S.C., App.), notice is hereby given for a meeting of Special Committee 206: Aeronautical Information and Meteorological Data Link Services. The agenda will include the following:

Agenda

December 12, 2011

• Open Plenary Session

• Chairman's Introductory Remarks

• Introductions

• Approval of previous meeting minutes

• Review and approve meeting agenda

• Schedule for this week

• Action item review

• Sub-Group 3 Work Plan/Roadmap—SG3 Chairmen

• Discuss Proposed TOR Changes

• Final Review and Comment (FRAC): Operational Services and Environmental Definition (OSED) for Aircraft Derived Meteorological Data via ADS-B Data Link for Wake Vortex, Air Traffic Management, and Weather Applications

December 13, 2011

• FRAC OSED

December 14, 2011

• FRAC OSED

December 15, 2011

• Review Concept of Use (ConUse) for AIS and MET Data Link Services

December 16, 2011

• Closing Plenary Session

• Action Item Review Action item review

• Future meeting plans and dates

• Approve proposed TOR changes

• Decision to release the ConUse document for FRAC process

• Decision to approve the OSED document for release to the PMC

Note: If needed, FRAC or ConUse review could roll over into Friday, which will delay the start of the 9 a.m. Closing Plenary

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on November 15, 2011.
Kathy Hitt,
Management Analyst, Business Operations Group, Federal Aviation Administration.

[FR Doc. 2011-30074 Filed 11-21-11; 8:45 am]

BILLING CODE 4910-13-P